ENVIRONMENTAL PROTECTION AGENCY

[EPA-HQ-OPP-2009-0879; FRL-9943-80]

Environmental Modeling Public Meeting; Notice of Public Meeting

AGENCY: Environmental Protection Agency (EPA).

ACTION: Notice.

SUMMARY: An Environmental Modeling Public Meeting (EMPM) will be held on Monday, May 9, 2016. This Notice announces the location and time for the meeting and provides a tentative list of topics to be covered in the meeting. The EMPM provides a public forum for EPA and its stakeholders to discuss current issues related to modeling pesticide fate, transport, and exposure for pesticide risk assessments in a regulatory context.

DATES: The meeting will be held on Monday, May 9, 2016 from 9:00 a.m. to 4:00 p.m. Requests to participate in the meeting must be received on or before April 15, 2016.

To request accommodation of a disability, please contact the person listed under FOR FURTHER INFORMATON CONTACT, preferably at least 10 days prior to the meeting, to give EPA as much time as possible to process your request.

ADDRESSES: The meeting will be held at the Environmental Protection Agency, Office of Pesticide Programs (OPP), One Potomac Yard (South Building), First Floor Conference Center (S-1204/6), 2777 S. Crystal Drive, Arlington, VA 22202.

FOR FURTHER INFORMATION CONTACT: Bill Eckel or James Hook, Environmental Fate and Effects Division, Office of Pesticide Programs, Environmental Protection Agency, 1200 Pennsylvania Ave. NW., Washington, DC 20460-0001; telephone numbers: (703) 305-6451 and (703) 347-0307; fax number: (703) 347-8011; email address: eckel.william@epa.gov and hook.james@epa.gov.

SUPPLEMENTARY INFORMATION:

I. General Information

A. Does this action apply to me?

You may be potentially affected by this action if you are required to conduct testing of chemical substances under the Toxic Substances Control Act (TSCA), the Federal Food, Drug, and Cosmetic Act (FFDCA), or the Federal Insecticide, Fungicide, and Rodenticide Act (FIFRA). Since other entities may also be interested, the Agency has not attempted to describe all the specific entities that may be affected by this action. The following list of North American Industrial Classification System (NAICS) codes is not intended to be exhaustive, but rather provides a guide to help readers determine whether this document applies to them. Potentially affected entities may include:

• Agriculture, Forestry, Fishing and Hunting NAICS code 11

• Utilities NAICS code 22

• Professional, Scientific and Technical NAICS code 54

B. How can I get copies of this document and other related information?

The docket for this action, identified by docket identification (ID) number EPA-HQ-OPP-2009-0879 is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744 and the telephone number for the OPP Docket is (703) 305-5805. Please review the visitor instructions and additional information about the docket available at http://www.epa.gov/dockets.

II. Background

On a biannual interval, an Environmental Modeling Public Meeting (EMPM) is held for presentation and discussion of current issues related to modeling pesticide fate, transport, and exposure for risk assessment in a regulatory context. Meeting dates and abstract requests are announced through the “empmlist” forum on the Lyris list server at: https://lists.epa.gov/read/all_forums/.

III. How can I request to participate in this meeting?

You may submit a request to participate in this meeting to the person listed under FOR FURTHER INFORMATION CONTACT. Do not submit any information in your request that is considered CBI. Requests to participate in the meeting, identified by docket ID number EPA-HQ-OPP-2009-0879 must be received on or before April 15, 2016. Participants can also join the meeting by going to: https://epa.connectsolutions.com/oct2015empm/ and enter as a guest. Participants will then need to call in to the meeting by using the call in number 1-866-299-3188, followed by the conference code (703) 555-6627.

IV. Tentative Topics for the Meeting

• TED tool for Endangered Species Act (ESA) terrestrial risk assessment.

• ESA weight-of-evidence tool.

• TIM-McNest.

• Population model of a threatened plant species.

• Impact of variability in non-target terrestrial plant studies on endpoint selection.

• Overlap tool for May affect determinations.

• Aquatic exposure modeling for ESA pilot chemicals.

• Development and evaluation of a screening-level flowing water exposure modeling approach for endangered species assessments.

• Watershed-scale refined flowing water exposure modeling approach for endangered species assessments.

• Pesticide residue and degradation formulations in vegetative filter strips for environmental exposure assessments.

Authority: 7 U.S.C. 136 et seq.

Dated: March 23, 2016.
Donald J. Brady,
Director, Environmental Fate and Effects Division, Office of Pesticide Programs.

[FR Doc. 2016-07794 Filed 4-4-16; 8:45 am]

BILLING CODE 6560-50-P